DEPARTMENT OF COMMERCE

National Oceanic and Atmospheric Administration

[RTID 0648-XA637]

New England Fishery Management Council; Public Meeting

AGENCY: National Marine Fisheries Service (NMFS), National Oceanic and Atmospheric Administration (NOAA), Commerce.

ACTION: Notice of public meeting.

SUMMARY: The New England Fishery Management Council (Council, NEFMC) will hold a three-day meeting to consider actions affecting New England fisheries in the exclusive economic zone (EEZ). Due to federal and state travel restrictions and updated guidance from the Centers for Disease Control and Prevention related to COVID-19, this meeting will be conducted entirely by webinar.

DATES: The webinar meeting will be held on Tuesday, Wednesday, and Thursday, December 1, December 2, and December 3, 2020, beginning at 9 a.m. each day.

ADDRESSES: All meeting participants and interested parties can register to join the webinar at https://attendee.gotowebinar.com/register/3991858738902876943.

Council address: New England Fishery Management Council, 50 Water Street, Mill 2, Newburyport, MA 01950; telephone: (978) 465-0492; www.nefmc.org.

FOR FURTHER INFORMATION CONTACT: Thomas A. Nies, Executive Director, New England Fishery Management Council; telephone: (978) 465-0492, ext. 113.

SUPPLEMENTARY INFORMATION:

Agenda

Tuesday, December 1, 2020

After introductions and brief announcements, the Council will receive reports on recent activities from its Chairman and Executive Director, NMFS's Greater Atlantic Regional Fisheries Office (GARFO) Regional Administrator, liaisons from the Northeast Fisheries Science Center (NEFSC) and Mid-Atlantic Fishery Management Council, staff from the Atlantic States Marine Fisheries Commission (ASMFC), and representatives from NOAA General Counsel, NOAA's Office of Law Enforcement, the U.S. Coast Guard, and the Advisory Committee to the U.S. Section of the International Commission for the Conservation of Atlantic Tunas (ICCAT). Next, the Council will continue the discussion it initiated during its October 27, 2020 meeting regarding 2021 priorities for ecosystem-based fishery management (EBFM). During the October meeting, the Council approved 2021 work priorities for all of its committees and associated responsibilities except for EBFM. The Council will discuss EBFM priorities in more detail during this December meeting and decide whether to reaffirm or alter its current path for EBFM, including its approach for outreach efforts and management strategy evaluation.

Following the lunch break, members of the public will have the opportunity to speak during an open comment period on issues that relate to Council business but are not included on the published agenda for this meeting. The Council asks the public to limit remarks to 3-5 minutes. These comments will be received through the webinar. A guide for how to publicly comment through the webinar is available on the Council website at https://s3.amazonaws.com/nefmc.org/NEFMC-meeting-remote-participation_generic.pdf. Next, the Council will receive a brief Atlantic Herring Report with an update on: (1) Framework Adjustment 7 to the Atlantic Herring Fishery Management Plan (FMP), which is being developed to protect spawning herring on Georges Bank; and (2) other herring-related actions as needed. After that, the Council will receive a presentation on the three-year review of the Standardized Bycatch Reporting Methodology and have an opportunity to discuss the report and ask questions. Then, the Council will receive a final report from the Northeast Regional Ocean Council (NROC) and the Responsible Offshore Development Alliance (RODA) on their collaborative effort to update commercial fisheries data on the Northeast Ocean Data Portal. The Council will close out the day with a Habitat Committee Report. Here, the Council will: (1) Review and approve completed Habitat Policies for Aquaculture and Submarine Cables; (2) receive updates on offshore energy and habitat-related work; and (3) receive an update from NOAA Fisheries on regional aquaculture activities and recent developments related to the announcement for Federal Aquaculture Opportunity Areas. The Council is expected to discuss and potentially offer feedback on all of these issues. After this discussion, the Council will adjourn for the day.

Wednesday, December 2, 2020

The Council will begin the day with a report from the Northeast Fisheries Science Center on the peer reviewed Fall 2020 Management Track Stock Assessments for Atlantic sea scallops and 13 Northeast multispecies stocks, which include large-mesh groundfish stocks and small-mesh whiting/hake stocks. The Scientific and Statistical Committee (SSC) then will present its recommendations for overfishing limits (OFLs) and acceptable biological catches (ABCs) for: (1) The 2021 scallop fishing year, along with default specifications for fishing year 2022; and (2) northern and southern red hake, northern and southern silver hake, and offshore hake for the 2021-23 fishing years. The Council's Scallop Committee will provide the next report, which will cover (1) an overview of 2020 scallop survey results; and (2) a progress report on Framework Adjustment 33 to the Atlantic Sea Scallop FMP, which contains 2021 fishery specifications, 2020 default specifications, and other measures.

Following the lunch break, the Council will take up the Small-Mesh Multispecies (Whiting) Committee Report. First, the Council will receive a presentation on the Annual Monitoring Report containing catch accounting information or the 2019 fishing year. Second, the Council will initiate an action to set small-mesh multispecies specification for the 2021-23 fishing years. The Council will take final action on these specifications during its January 2021 meeting. The Council then will hear Part 2 of the SSC report, which will cover: (1) OFL and ABC recommendations for nine groundfish stocks for fishing years 2021-23; and (2) recommendations for white hake rebuilding. The Groundfish Committee will report next on Framework Adjustment 61 to the Northeast Multispecies FMP. The Council is expected to take final action on this framework in two steps. First, during this December meeting, the Council will take final action on measures to: (1) Set 2021 total allowable catches for shared U.S./Canada stocks on Georges Bank; (2) set 2021-23 specifications for roughly half of the U.S. groundfish stocks; and (3) identify white hake rebuilding provisions. In addition, the Council will discuss the potential inclusion of a universal exemption for groundfish sectors that would allow fishing for redfish, haddock, and pollock by sector boats under certain provisions. Final action on this particular Framework 61 item will take place during the Council's January meeting. At the conclusion of the groundfish discussion, the Council will adjourn for the day.

Thursday, December 3, 2020

The Council will begin the day with a briefing from NOAA General Council on the final rule addressing disclosure of financial interests and voting recusal regulations for Regional Fishery Management Councils. Next, the Council will take up the Spiny Dogfish report. Spiny dogfish is managed jointly by the New England and Mid-Atlantic Fishery Management Councils with the Mid-Atlantic Council having the administrative lead. The New England Council will review 2021-22 specifications proposed by the Mid-Atlantic Council, discuss the recommendations, and consider whether to adopt the specifications and/or identify/propose alternatives. Following the conclusion of the dogfish discussion, the Skate Committee Report will be next. The Council will consider approving a scoping document to expand the range of possible measures in Amendment 5 to the Northeast Skate Complex FMP. This amendment is being developed to consider establishing limited access in the skate wing and/or bait fisheries and other measures that may prevent the triggering of incidental skate possession limits, improve the precision and accuracy of catch data, and better define skate fishery participants. Finally, the Council will receive a report from the Northeast Fisheries Science Center and NOAA's Greater Atlantic Regional Fisheries Office on North Atlantic right whales. This report will be given in three parts, starting with a NEFSC update on the preliminary 2019 population estimate for right whales. Next, GARFO will brief the Council on the status of the Atlantic Large Whale Take Reduction Plan Draft Environmental Impact Statement (DEIS) and proposed rule. The Council will have an opportunity to ask questions and offer comments. GARFO also will provide an update on the Draft North Atlantic Right Whale Batched Biological Opinion (BiOp) covering 10 fisheries. The Council also may comment on the BiOp. In addition, the Council will receive a brief overview on the 2020 Ropeless Consortium Annual Meeting from one of its members. The Council then will close out the meeting with other business.

Although non-emergency issues not contained on this agenda may come before the Council for discussion, those issues may not be the subject of formal action during this meeting. Council action will be restricted to those issues specifically listed in this notice and any issues arising after publication of this notice that require emergency action under section 305(c) of the Magnuson-Stevens Fishery Conservation and Management Act, provided the public has been notified of the Council's intent to take final action to address the emergency. The public also should be aware that the meeting will be recorded. Consistent with 16 U.S.C. 1852, a copy of the recording is available upon request.

Special Accommodations

This meeting is being conducted entirely by webinar. Requests for auxiliary aids should be directed to Thomas A. Nies (see ADDRESSES) at least 5 days prior to the meeting date.

Dated: November 9, 2020.
Diane M. DeJames-Daly,
Acting Deputy Director, Office of Sustainable Fisheries, National Marine Fisheries Service.

[FR Doc. 2020-25129 Filed 11-12-20; 8:45 am]

BILLING CODE 3510-22-P